DEPARTMENT OF ENERGY

Bonneville Power Administration

Klondike III/Biglow Canyon Wind Integration Project

AGENCY: Bonneville Power Administration (BPA), Department of Energy (DOE).

ACTION: Notice of Record of Decision (ROD).

SUMMARY: This notice announces the availability of the ROD to implement the Proposed Action identified in the Klondike III/Biglow Canyon Wind Integration Project Final Environmental Impact Statement (EIS) (DOE/EIS-0374, September 2006). BPA will offer PPM Energy, Inc. contract terms for interconnection of the proposed Klondike III Wind Project, located in Sherman County, Oregon, with the Federal Columbia River Transmission System (FCRTS). BPA will also offer Portland General Electric contract terms for interconnection of its proposed Biglow Canyon Wind Farm, also located in Sherman County, Oregon, with the FCRTS, as proposed in the Final EIS. To interconnect these wind projects, BPA will build and operate a 12-mile-long, 230-kilovolt (kV) double-circuit transmission line between the wind projects and BPA's new 230-kV John Day Substation located in Sherman County, Oregon. BPA will also expand its existing 500-kV John Day Substation.

ADDRESSES: Copies of the ROD and Final EIS may be obtained by calling BPA's toll-free document request line, 1-800-622-4520. The ROD and EIS Summary are also available on our Web site, http://www.efw.bpa.gov.

FOR FURTHER INFORMATION CONTACT: Gene Lynard, Environmental Project Manager, Bonneville Power Administration—KEC-4, P.O. Box 3621, Portland, Oregon 97208-3621; toll-free telephone number 1-800-282-3713; fax number 503-230-5699; or e-mail gplynard@bpa.gov.

SUPPLEMENTARY INFORMATION: Integrating the proposed wind projects will maintain transmission system reliability to industry standards, assure consistency with BPA's statutory obligations, meet BPA's contractual obligations, minimize costs, encourage development of renewable energy resources, and minimize environmental impacts. As described in the EIS, BPA's new 230-kV transmission line, new substation, and John Day Substation expansion would generally create no or low impacts. BPA minimized potential environmental and social impacts through project design and development of mitigation measures. All mitigation measures presented in the Final EIS for the selected alternative have been incorporated into a Mitigation Action Plan. In issuing this ROD, BPA is also committing to all mitigation measures in the Mitigation Action Plan.

Issued in Portland, Oregon, on October 25, 2006.
Stephen J. Wright,
Administrator and Chief Executive Officer.

[FR Doc. E6-18610 Filed 11-2-06; 8:45 am]

BILLING CODE 6450-01-P